DEPARTMENT OF TRANSPORTATION

National Highway Traffic Safety Administration

49 CFR Part 571

[Docket No. NHTSA-2004-18039]

NHTSA's Four-Year Plan for Hydrogen, Fuel Cell and Alternative Fuel Vehicle Safety Research

AGENCY: National Highway Traffic Safety Administration (NHTSA), DOT.

ACTION: Request for comments.

SUMMARY: This notice announces the availability of a planning document that describes the scope and timeline of NHTSA's proposed research program addressing safety and fuel economy assessment of hydrogen-powered fuel cell and internal combustion engine vehicles.

Ensuring that hydrogen internal combustion engine (ICE) and fuel cell powered vehicles provide a level of safety comparable to that of other vehicles currently in use in the United States requires a substantial research effort. Hydrogen-powered vehicles will utilize many advanced and unique technologies that have not been tested in the transportation environment. Very little data are available concerning the safe performance of these vehicles because so few exist; they are typically prototypes handled by specially trained personnel. Many manufacturers, however, are substantially investing in producing and marketing these vehicles in the near future. As these vehicles are deployed into the fleet, the safety of hydrogen as a fuel and the safety of alternative fuel vehicles in crashes becomes an important issue for public safety. A failure to adequately address safety concerns in the earliest stages of development could have a negative impact on the deployment of this new technology.

Corollary efforts by NHTSA that are covered in the plan address fuel economy and international harmonization of global technical regulations for hydrogen vehicles. The agency will analyze the potential increases in the fleet fuel economy. NHTSA will also work with its international counterparts to determine the content of regulations pertaining to fuel cell and ICE hydrogen vehicles.

NHTSA seeks public review and comment on the planning document. Comments received will be evaluated and incorporated, as appropriate, into planned agency activities.

DATES: Comments should be submitted early enough to ensure that Docket Management receives them not later than October 12, 2004.

ADDRESSES: Interested persons may obtain a copy of the research plan by downloading the document from the Document Management System (DMS), U.S. Department of Transportation, at the address provided below, or from NHTSA's Web site at http://www-nrd.nhtsa.dot.gov/departments/nrd-11/H2-4yr-plan.html. Alternatively, interested persons may obtain a copy of the document by contacting the agency official(s) listed in the section titled, “For Further Information Contact,” immediately below. You may submit your comments (identified by DOT DMS Docket Number NHTSA-2004-18039) by any of the following methods:

• Web Site: http://dms.dot.gov. Follow the instructions for submitting comments on the DOT electronic docket site.

• Fax: (202) 493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

FOR FURTHER INFORMATION CONTACT: The following persons at the National Highway Traffic Safety Administration, 400 Seventh Street, SW., Washington, DC 20590:

For Technical Issues

Barbara C. Hennessey, Office of Applied Vehicle Safety Research, NVS-320, telephone (202) 366-4714, e-mail Barbara.Hennessey@nhtsa.dot.gov.

Submission of Comments

How Do I Prepare and Submit Comments?

Interested persons are invited to submit comments in response to this request. We request that commenters provide all relevant factual information to support their conclusions or opinions, including statistical data and estimated cost and benefits, and the source of such information.

Comments must be written and in English. To ensure that your comments are correctly filed in the Docket, please include the docket number of this notice.

Comments must not be more than 15 pages long. (49 CFR 553.21). This limit was established to encourage comments written in a concise fashion. However, additional documents may be attached to your comments.

There is no limit on the length of the attachments.

Please submit two copies of comments, including the attachments, to Docket Management at the address given above under ADDRESSES.Note that all comments received will be posted without change to http://dms.dot.gov, including any personal information provided. Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

How Can I Be Sure That My Comments Were Received?

If you wish Docket Management to notify you upon its receipt of your comments, mail a self-addressed, stamped postcard to Docket Management. Upon receiving your comments, Docket Management will return the postcard by mail.

How Do I Submit Confidential Business Information?

If you wish to submit any information under a claim of confidentiality, you should submit three copies of your complete submission, including the information you claim to be confidential business information, to the Chief Counsel, NHTSA, 400 7th St., SW., Washington, DC 20590. In addition, you should submit two copies of your comments, from which you have deleted the claimed confidential business information, to Docket Management at the address given above under ADDRESSES. When you send a comment containing information claimed to be confidential business information, you should include a cover letter setting forth the information specified in our confidential business information regulation. (49 CFR part 512.)

Will the Agency Consider Late Comments?

We will consider all comments that Docket Management receives before the close of business on the comment closing date indicated above under DATES. To the extent possible, we will also consider comments that Docket Management receives after that date.

How Can I Read the Comments Submitted by Other People?

You may read the comments received by Docket Management at the address given above under ADDRESSES. The hours of the Docket are 9 a.m. to 5 p.m., Monday to Friday, except Federal holidays. You may also see the comments on the Internet. To read the comments on the Internet, take the following steps:

• Go to the Docket Management System (DMS) Web page of the Department of Transportation (http://dms.dot.gov).

• On that page, click on “search.”

• On the next page (http://dms.dot.gov/search/), type in the five-digit docket number shown at the beginning of this document. Example: If the docket number were “NHTSA-2001-12345,” you would type “12345.” After typing the docket number, click on “search.”

• On the next page, which contains docket summary information for the docket you selected, click on the desired comments. You may download the comments. Please note that even after the comment closing date, we will continue to file relevant information in the Docket as it becomes available. Since some people may submit late comments, we recommend that you periodically check the Docket for new material.

Authority: 49 U.S.C. 322, 30111, 30115, 30117, and 30166; delegation of authority at 49 CFR 1.50.

Issued on: July 6, 2004.
Joseph N. Kanianthra,
Associate Administrator for Vehicle Safety Research.

[FR Doc. 04-15971 Filed 7-13-04; 8:45 am]

BILLING CODE 4910-59-P